DEPARTMENT OF HOMELAND SECURITY

Coast Guard

33 CFR Part 117

[Docket No. USCG-2011-0932]

Drawbridge Operation Regulation; Trent River, New Bern, NC

AGENCY: Coast Guard, DHS.

ACTION: Notice of temporary deviation from regulations.

SUMMARY: The Commander, Fifth Coast Guard District, has issued a temporary deviation from the regulation governing the operation of the US 70 Alfred Cunningham Bridge across the Trent River, mile 0.0, at New Bern, NC. The deviation is necessary to accommodate racers in the three Neuse River Bridge Runs. This deviation allows the bridge to remain in the closed position to ensure safe passage for the racers.

DATES: This deviation is effective from 6:30 a.m. through 9:30 a.m. on October 15, 2011.

ADDRESSES: Documents mentioned in this preamble as being available in the docket are part of docket USCG-2011-0932 and are available online by going to http://www.regulations.gov, inserting USCG-2011-0932 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Lindsey Middleton, Coast Guard; telephone 757-398-6629, e-mail Lindsey.R.Middleton@uscg.mil. If you have questions on viewing the docket, call Renee V. Wright, Program Manager, Docket Operations, telephone 202-366-9826.

SUPPLEMENTARY INFORMATION: The Neuse River Bridge Run Committee on behalf of the North Carolina Department of Transportation has requested a temporary deviation from the current operating regulation of the US 70 Alfred Cunningham Bascule Bridge across the Trent River, mile 0.0, at New Bern, NC. The route of the three Neuse River Bridge Run races cross the bridge and the requested deviation is to accommodate a safe and efficient passage across the bridge for the racers. To facilitate this event, the draw of the bridge will be maintained in the closed-to-navigation position from 6:30 a.m. until 9:30 a.m. on Saturday, October 15, 2011.

The vertical clearance for this bridge in the closed position is 14 feet at Mean High Water and unlimited in the open position. The operating regulations are set forth in 33 CFR 117.843(a) which states that during this time of year the bridge shall open on signal.

Vessels that can pass through the bridge in the closed position may do so at any time. The Coast Guard will inform the waterway users of the closure through our Local Notices to Mariners and other appropriate local media to minimize any impact caused by the temporary deviation. The bridge will be able to open for emergencies. Most vessel traffic utilizing this bridge consists of recreational boaters. October is outside of the high recreational boating season therefore, only a small number of boaters may be affected by this temporary closure. There are no alternate routes to the Neuse River from the Trent River.

In accordance with 33 CFR 117.35(e), the drawbridge must return to its regular operating schedule immediately at the end of the designated time period. This deviation from the operating regulations is authorized under 33 CFR 117.35.

Dated: September 26, 2011.
Waverly W. Gregory, Jr.,
Bridge Program Manager, by direction of the Commander, Fifth Coast Guard District.

[FR Doc. 2011-26543 Filed 10-13-11; 8:45 am]

BILLING CODE 9110-04-P